INTERNATIONAL TRADE COMMISSION

[Investigation Nos. 701-TA-494 and 496 (Final)]

Frozen Warmwater Shrimp from Indonesia and Thailand; Termination of Investigations

AGENCY: United States International Trade Commission.

ACTION: Notice.

SUMMARY: On August 19, 2013, the Department of Commerce published notices in the Federal Register of negative final determinations of subsidies in connection with the subject investigations concerning Indonesia (78 FR 50379) and Thailand (78 FR 50383). Accordingly, pursuant to section 207.40(a) of the Commission's Rules of Practice and Procedure (19 CFR 207.40(a)), the countervailing duty investigations concerning frozen warmwater shrimp from Indonesia and Thailand (investigation Nos. 701-TA-494 and 496 (Final)) are terminated.

DATES: Effective Date: August 19, 2013.

FOR FURTHER INFORMATION CONTACT: Edward Petronzio (202-205-3176), Office of Investigations, U.S. International Trade Commission, 500 E Street SW., Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server (http://www.usitc.gov). The public record for these investigations may be viewed on the Commission's electronic docket (EDIS) at http://edis.usitc.gov.

Authority: These investigations are being terminated under authority of title VII of the Tariff Act of 1930; this notice is published pursuant to section 201.10 of the Commission's rules (19 CFR 201.10).

By order of the Commission.
Issued: September 3, 2013.
Lisa R. Barton,
Acting Secretary to the Commission.

[FR Doc. 2013-21725 Filed 9-5-13; 8:45 am]

BILLING CODE 7020-02-P